DEPARTMENT OF THE INTERIOR

Bureau of Land Management

[NV-040-5101-ER-F345; N-78803]

Notice To Extend Public Comment Period for Reopened Public Scoping Process for the Proposed Clark, Lincoln, and White Pine Counties Groundwater Development Project

AGENCY: Bureau of Land Management, Interior.

ACTION: Notice to Extend Public Comment Period for Reopened Public Scoping Process for the Proposed Clark, Lincoln, and White Pine Counties Groundwater Development Project.

SUMMARY: Public comment period is being extended on the Proposed Clark, Lincoln, and White Pine Counties Groundwater Development Project. The comment period is being extended due to extensive public comment and a high level of public interest.

DATES: The public comment period is being extended to October 17, 2006. Submissions should be in writing or by Fax (see ADDRESSES below).

ADDRESSES: Comments should be submitted in writing to: Penny Woods, Bureau of Land Management, Nevada State Office, 1340 Financial Boulevard, P.O. Box 12000, Reno, Nevada 89520-0006 or by Fax to: 775-861-6466. Comments submitted during this EIS process, including names and street addresses of respondents will be available for public review at the Nevada State Office during regular business hours 7:30 a.m. to 4:30 p.m., Monday through Friday, except holidays. Individual respondents may request confidentiality. If you wish to withhold your name and address from public review or disclosure under the Freedom of Information Act, you must state this prominently at the beginning of your comments. Such requests will be honored to the extent allowed by law. All submissions from organizations or businesses, and from individuals identifying themselves as representatives or officials of organizations or businesses, will be made available for public inspection in their entirety.

FOR FURTHER INFORMATION CONTACT: For further information or to have your name added to/removed from the EIS mailing list, contact Penny Woods at the Nevada State Office (see ADDRESSES above), telephone 775-861-6466.

SUPPLEMENTARY INFORMATION: The Notice to Reopen the Public Scoping Process for the Proposed Clark, Lincoln, and White Pine Counties Groundwater Development Project was originally published in the Federal Register on July 19, 2006 (71 FR 138). Information concerning the reopening of scoping can also be found on the Nevada BLM Web site at http://www.nv.blm.gov.

Amy Lueders,
Associate State Director.

[FR Doc. E6-15725 Filed 9-25-06; 8:45 am]

BILLING CODE 4310-HC-P